ARCHITECTURAL AND TRANSPORTATION BARRIERS COMPLIANCE BOARD

36 CFR Parts 1190 and 1191

RIN 3014-AA20

Americans With Disabilities Act (ADA) Accessibility Guidelines for Buildings and Facilities; Architectural Barriers Act (ABA) Accessibility Guidelines

AGENCY: Architectural and Transportation Barriers Compliance Board.

ACTION: Proposed rule; meetings.

SUMMARY: The Architectural and Transportation Barriers Compliance Board (Access Board) will hold two informational meetings to provide the public with additional opportunities to discuss proposed requirements relating to automated teller machines, reach ranges, and captioning equipment included in its Notice of Proposed Rulemaking to amend the accessibility guidelines for buildings and facilities covered by the Americans with Disabilities Act (ADA) of 1990 and the Architectural Barriers Act (ABA) of 1968. The meetings will be held on the dates and at the locations noted below.

DATES: The Access Board will hold an informational meeting on access to automated teller machines on October 24, 2000 from 8:30 a.m. to 5:30 p.m. and an informational meeting on captioning equipment on October 25, 2000 from 8:30 a.m. to 10:30 a.m. and reach ranges on October 25, 2000 from 10:30 a.m. to 5:30 p.m.

ADDRESSES: The meetings will be held at the Hilton Garden Inn, 815 14th Street, NW., in Washington, DC.

FOR FURTHER INFORMATION CONTACT: Marsha Mazz, Office of Technical and Information Services, Architectural and Transportation Barriers Compliance Board, 1331 F Street, NW., suite 1000, Washington, DC 20004-1111. Telephone number (202) 272-5434 extension 121 (Voice); (202) 272-5449 (TTY). These are not toll-free numbers. Electronic mail address: mazz@access-board.gov. This document is available in alternate formats (cassette tape, Braille, large print, or computer disk) upon request.

SUPPLEMENTARY INFORMATION: On November 16, 1999 the Architectural and Transportation Barriers Compliance Board (Access Board) published a Notice of Proposed Rulemaking to amend the accessibility guidelines for the Americans with Disabilities Act (ADA) of 1990 and the Architectural Barriers Act (ABA) of 1968. 64 FR 62248 (November 16, 1999). Proposed section 707 includes several provisions that may affect access to automated teller machines (ATMs), point of sale machines, and interactive transaction machines by people who are blind or have vision impairments. Proposed section 308 includes provisions for maximum high unobstructed reach. While section 707 is based on the American National Standard for Accessible and Usable Buildings and Facilities, ICC/ANSI A117.1-1998, the Board departed from this consensus standard with regard to reach ranges. In the proposed rule, the Board sought information on different means of providing captioning for movie theaters (Question 36). The Board is interested in receiving more information about various types of captioning as it relates to the built environment.

The Board wishes to provide affected parties the opportunity to share their views and expertise directly with the Board on these issues. Specific areas of inquiry are:

ATMs

• What are the performance expectations of people who are blind or have a vision impairment?

• What functions are currently accessible in audible format and on what types of devices?

• What functions cannot be made accessible in audible format and why?

• What are the hardware and software costs associated with audible output?

• What does the industry hope to gain from a “performance standard'?

• What effect would a 48 inch maximum reach have on ATMs, point of sale machines, and interactive transaction machines?

Reach Ranges

• What manufactured equipment cannot provide a 48 inch high side reach and why?

• Are there newly constructed building elements that would be substantially affected in terms of usability by lowering the high side reach from 54 inches to 48 inches?

• What is the experience in those States where the ICC/ANSI A117.1-1998 standard requiring the side reach to be no higher than 48 inches is used?

Captioning for Movie Theaters

• What technical provisions are necessary to facilitate or augment the use of auxiliary aids such as captioning and videotext displays?

• What are the various options for providing captioning that would best facilitate effective communication?

• If provisions for conduit, electrical service, screen anchoring devices at seats, or other requirements that make providing accessible communication possible in the built environment are required in the final rule, how specific should those provisions be?

Members of the public are encouraged to share their views on these subjects with the Board. Following the informational meetings, the Board will determine the provisions to be included in the final rule. The informational meetings will be informal and open to the public.

Members of the public are encouraged to contact Marsha Mazz at (202) 272-5434 extension 121 (Voice), (202) 272-5449 (TTY), or electronic mail mazz@access-board.gov to preregister to attend the informational meetings.

All meetings are accessible to persons with disabilities. Sign language interpreters and an assistive listening system will be available at the meetings. Persons attending the informational meetings are requested to refrain from using perfume, cologne, and other fragrances for the comfort of other participants.

Lawrence W. Roffee,
Executive Director.

[FR Doc. 00-25382 Filed 10-2-00; 8:45 am]

BILLING CODE 8150-01-P